DEPARTMENT OF HOMELAND SECURITY

Coast Guard

[Docket No. USCG-2016-0201]

Notification of the Removal of Conditions of Entry on Vessels Arriving From the Republic of Cuba

AGENCY: Coast Guard, DHS.

ACTION: Notice.

SUMMARY: The Coast Guard announces that it is removing the conditions of entry on vessels arriving from the country of the Republic of Cuba.

DATES: The policy announced in this notice is effective on March 22, 2016.

ADDRESSES: This notice is part of docket USCG-2016-0201 and is available online by going to http://www.regulations.gov, inserting USCG-2016-0201 in the “Keyword” box, and then clicking “Search.”

FOR FURTHER INFORMATION CONTACT: If you have questions on this notice, contact Mr. Michael Brown, Office of Domestic and International Port Security, United States Coast Guard, telephone 202-372-1081 and email Michael.W.Brown@uscg.mil.

SUPPLEMENTARY INFORMATION:

Background and Purpose

Section 70110 of title 46, United States Code, enacted as part of section 102(a) of the Maritime Transportation Security Act of 2002 (Pub. L. 107-295, Nov. 25, 2002) authorizes the Secretary of Homeland Security to impose conditions of entry on vessels requesting entry into the United States arriving from ports that are not maintaining effective anti-terrorism measures. It also requires public notice of the ineffective anti-terrorism measures. The Secretary has delegated to the Coast Guard authority to carry out the provisions of this section. Previous notices have imposed or removed conditions of entry on vessels arriving from certain countries, and those conditions of entry and the countries they pertain to remain in effect unless modified by this notice. On April 4, 2008 the Coast Guard published a Notice of Policy in the Federal Register, (73 FR 18546), announcing that it had determined that ports in the Republic of Cuba were not maintaining effective anti-terrorism measures, and imposed conditions of entry.

Based on port assessments conducted in February 2016, the Coast Guard has determined that the Republic of Cuba is now maintaining effective anti-terrorism measures, and is accordingly removing the conditions of entry announced in the previously published Notice of Policy. With this notice, the current list of countries not maintaining effective anti-terrorism measures is as follows: Cambodia, Cameroon, Comoros, Cote d'Ivoire, Equatorial Guinea, The Gambia, Guinea-Bissau, Iran, Liberia, Libya, Madagascar, Nigeria, Sao Tome and Principe, Syria, Timor-Leste, Venezuela and Yemen. Notwithstanding this Notice, the “Unauthorized Entry into Cuban Territorial Waters” regulations located at 33 CFR part 107 remain in effect.

This notice is issued under authority of 46 U.S.C. 70110(d).

Dated: March 16, 2016.
Fred M. Midgette,
Vice Admiral, USCG, Deputy Commandant for Operations.

[FR Doc. 2016-06431 Filed 3-21-16; 8:45 am]

BILLING CODE 9110-04-P